DEPARTMENT OF HEALTH AND HUMAN SERVICES

Centers for Disease Control and Prevention

[Docket No. CDC-2017-0003]

Notice of Availability of the Draft Programmatic Environmental Assessment (Draft PEA) for Mosquito Control Activities Funded by HHS/CDC To Combat Zika Virus Transmission in the United States

AGENCY: Centers for Disease Control and Prevention (CDC), Department of Health and Human Services (HHS).

ACTION: Notice of Availability; request for comment.

SUMMARY: The Centers for Disease Control and Prevention (CDC), within the Department of Health and Human Services (HHS), is issuing this notice to request public comment on a draft Programmatic Environmental Assessment (Draft PEA) for mosquito control activities funded by HHS/CDC to Combat Zika Virus transmission in the United States. HHS/CDC prepared the draft PEA in accordance with the National Environmental Policy Act of 1969 (NEPA) as amended (42 U.S.C. 4321 et seq.), the Council on Environmental Quality (CEQ) implementing regulations (40 CFR parts 1500-1508) and the HHS General Administration Manual (GAM) Part 30 Environmental Procedures, dated February 25, 2000.

DATES: Written comments must be received on or before March 20, 2017.

ADDRESSES: You may submit comments, identified by Docket No. CDC-2017-xxxx by any of the following methods:

• Federal eRulemaking Portal: http://www.regulations.gov. Follow the instructions for submitting comments.

• Mail: Clint A. Liveoak, Deputy Director, Division of Issues Management, Analysis, and Coordination, Centers for Disease Control and Prevention, 1600 Clifton Road NE., MS-D13, Atlanta, GA 30329.

Instructions: All submissions received must include the agency name and Docket Number. All relevant comments received will be posted without change to http://regulations.gov, including any personal information provided. For access to the docket to read background documents or comments received, go to http://www.regulations.gov.

The draft PEA is available at HHS/CDC's Zika Web site, https://www.cdc.gov/zika and at the docket (www.regulations.gov). A copy of the draft PEA can also be requested from Clint A. Liveoak, Deputy Director, Division of Issues Management, Analysis, and Coordination, Centers for Disease Control and Prevention, 1600 Clifton Road, NE., MS-D13, Atlanta, GA 30329.

SUPPLEMENTARY INFORMATION: The Centers for Disease Control and Prevention (CDC), within the Department of Health and Human Services (HHS), has prepared a draft Programmatic Environmental Assessment (Draft PEA) to assess the potential impacts associated with supporting mosquito control activities funded by HHS/CDC to combat Zika Virus transmission in the United States. The Draft PEA analyzes the effect of the Enhanced Support for Integrated Mosquito Management (Proposed Alternative) and the No Action Alternative. The draft PEA evaluates the potential impacts to the environment from the proposed activities and outlines the steps that would be taken to mitigate any adverse impacts and ensure that the public is informed prior to any actions in a specific location.

HHS/CDC will review all comments received to the docket and issue a final Programmatic Environmental Assessment that will be announced in the Federal Register.

Dated: January 12, 2017.
Lauren Hoffmann,
Acting Executive Secretary, Centers for Disease Control and Prevention.

[FR Doc. 2017-01027 Filed 1-17-17; 8:45 am]

BILLING CODE 4163-18-P